DEPARTMENT OF THE TREASURY

Community Development Financial Institutions Fund

AGENCY: Community Development Financial Institutions Fund, Department of the Treasury.

ACTION: Request for Public Comments, Bank Enterprise Award Program.

SUMMARY: This document invites comments from the public on certain programmatic and administrative aspects of the Community Development Financial Institutions Fund's Bank Enterprise Award (BEA) Program, pursuant to the BEA Program regulations set forth at 12 CFR part 1806 (the Interim Rule). All materials submitted will be available for public inspection and copying.

DATES: All comments and submissions must be received by July 7, 2008.

ADDRESSES: Comments should be sent by mail to: Depository Institutions Program Advisor, CDFI Fund, U.S. Department of the Treasury, 601 13th Street, NW., Suite 200 South, Washington, DC 20005; by e-mail to cdfihelp@cdfi.treas.gov; or by facsimile at (202) 622-7754. This is not a toll free number.

FOR FURTHER INFORMATION CONTACT: Information regarding the CDFI Fund and its programs may be downloaded from the CDFI Fund's Web site at http://www.cdfifund.gov.

SUPPLEMENTARY INFORMATION: Through the BEA Program, the Community Development Financial Institutions Fund (CDFI Fund or the Fund) encourages Insured Depository Institutions to increase their activities in the form of loans, investments, services, and technical assistance provided within Distressed Communities, as well as investments in Community Development Financial Institutions (CDFIs) through grants, stock purchases, loans, deposits, and other forms of financial and technical assistance. The increase in these activities is measured from a Baseline Period to an Assessment Period. Each capitalized term used in this Request for Public Comments is more fully defined either in the Interim Rule or the Notice of Funds Availability for the FYs 2007 and 2008 funding rounds of the BEA Program (72 FR 189) (the NOFA). Through this notice, the CDFI Fund is seeking comments from the public regarding certain programmatic and administrative aspects of the CDFI Fund's BEA Program. Commentators are encouraged to consider, at a minimum, the following issues:

(1) Terms and Conditions of Award: Under the BEA Program, the Awardee enters into an Award Agreement with the CDFI Fund that sets forth the terms and conditions of the award. Currently, the Award Agreement does not require an Awardee to use the award for a specific purpose or activity. Furthermore, the Award Agreement does not require BEA Awardees to report to the Fund on the use of their awards.

(a) Use of BEA Awards: The Fund is considering revisions to the BEA Program that would require Awardees to use their awards for Qualified Activities. The Fund makes BEA awards to selected Applicants that increase their Qualified Activities during a specified period. Qualified Activities are defined in the Interim Rule to include CDFI Related Activities, Distressed Community Financing Activities, and Service Activities (12 CFR 1806.103(mm)). CDFI Related Activities include Equity Investments, Equity-Like Loans, and CDFI Support Activities (12 CFR 1806.103(p)). Distressed Community Financing Activities include Affordable Housing Loans; Affordable Housing Development Loans and related Project Investments; Education Loans; Commercial Real Estate Loans and related Project Investments; Home Improvement Loans; and Small Business Loans and related Project Investments (12 CFR 1806.103(u)). Service Activities include Deposit Liabilities; Financial Services; Community Services; Targeted Financial Services; and Targeted Retail Savings/Investment Products (12 CFR 1806.103(oo)).

(i) What information should the CDFI Fund collect from Awardees in order to monitor the use of BEA awards for Qualified Activities?

(ii) Are there additional types of Qualified Activities that should be included in the current list of Qualified Activities? If so, please describe. Should the CDFI Fund revise the current definitions of any Qualified Activities?

(iii) Are there other categories of activities in which the CDFI Fund should require Awardees to deploy their BEA awards?

(iv) What is a reasonable timeframe to require Awardees to deploy BEA award proceeds as Qualified Activities?

(v) How should the CDFI Fund administer this deployment requirement? Please comment on any application modifications, Award Agreement modifications, and compliance and monitoring policies that should be modified or created to support a deployment requirement.

(b) BEA Award Reporting Requirements:

(i) CDFI Program awardees and New Markets Tax Credit (NMTC) Program allocatees are required to report annual performance data through the CDFI Fund's Community Investment Impact System (CIIS). CDFIs that receive a Financial Assistance award through the CDFI Program are required to provide such data for three years; NMTC Program allocatees are required to report their activities for the entire period of their tax credit allocation period (over approximately seven years). The BEA Program has no such performance data reporting requirement. Should the CDFI Fund require BEA Awardees to report their performance activities annually through CIIS? How many years should BEA Awardees be required to report such data?

(ii) The BEA Application Report of Transactions spreadsheet includes a field for Applicants to report impacts for Distressed Community Financing Activities. Currently, this reporting request is optional for Applicants. Should the Fund require Applicants to report the estimated impact for each Qualifying Activity submitted for award consideration? Should the Fund revise the current definitions of the Distressed Community Financing Activity impacts? If so, please provide relevant impact definitions for the current Qualifying Activities.

(2) Eligible CDFI Partners: Currently, the CDFI Fund requires eligible CDFI Partners to submit BEA Signature Pages and Distressed Community maps for each funding round in which they receive support through an Applicant's CDFI Related Activities. Should the CDFI Fund consider all certified CDFIs as eligible CDFI Partners, and eliminate all or any CDFI Partner submission requirements?

(3) Calculating the Estimated Award Amount: The Interim Rule describes the process for selecting Applicants to receive BEA Program awards and determining award amounts. Currently there is no minimum amount for BEA awards. Should the CDFI Fund establish a minimum award threshold? If so, what should it be?

Authority: 12 U.S.C. 1834a, 4703, 4703 note, 4713; 12 CFR part 1806.

Dated: May 29, 2008.
Donna J. Gambrell,
Director, Community Development Financial Institutions Fund.

[FR Doc. E8-12515 Filed 6-3-08; 8:45 am]

BILLING CODE 4810-70-P